NATIONAL FOUNDATION ON THE ARTS AND THE HUMANITIES

National Endowment for the Arts; Arts Advisory Panel

Pursuant to Section 10(a)(2) of the Federal Advisory Committee Act (Pub. L. 92-463), as amended, notice is hereby given that six meetings of the Arts Advisory Panel to the National Council on the Arts will be held by teleconference from the Nancy Hanks Center, 1100 Pennsylvania Avenue, NW., Washington, DC, 20506. These are closed meetings to review applications for funding under the American Recovery and Reinvestment Act of 2009 as follows (ending times are approximate):

Music: May 28, 2009, from 11 p.m. to 12 p.m.

Music: May 28, 2009, from 1:30 p.m. to 2:30 p.m.

Music: May 28, 2009, from 2:30 p.m. to 3:30 p.m.

Opera: May 28, 2009, from 3:30 p.m. to 4:30 p.m.

Opera: May 19, 2009, from 4:30 p.m. to 5:30 p.m.

Additionally, the Museums meeting originally announced for May 20, 2009 from 1 p.m. to 2 p.m. will be held from 12 p.m. to 1 p.m.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: April 30, 2009
Kathy Plowitz-Worden,
Panel Coordinator, Panel Operations, National Endowment for the Arts.

[FR Doc. E9-10399 Filed 5-5-09; 8:45 am]

BILLING CODE 7537-01-P